DEPARTMENT OF JUSTICE

Antitrust Division

Notice Pursuant to the National Cooperative Research and Production Act of 1993—Maritime Sustainment Technology and Innovation Consortium

Notice is hereby given that, on October 5, 2022, pursuant to section 6(a) of the National Cooperative Research and Production Act of 1993, 15 U.S.C. 4301 et seq. (“the Act”), Maritime Sustainment Technology and Innovation Consortium (“MSTIC”) has filed written notifications simultaneously with the Attorney General and the Federal Trade Commission disclosing changes in its membership. The notifications were filed for the purpose of extending the Act's provisions limiting the recovery of antitrust plaintiffs to actual damages under specified circumstances. Specifically, Advanced internet Marketing dba The GBS Group, Virginia Beach, VA; Airborne Data Imaging Group, Inc., Flourtown, PA; Amentum Services, Inc., Germantown, MD; AURA Technologies LLC, Raleigh, NC; Cignal LLC, Reedsville, PA; Curtiss-Wright Electro-Mechanical Corporation, Cheswick, PA; EMS Development Corporation, Yaphank, NY; L3 Technologies, Inc., Systems Company, Camden, NJ; LOWEN Marine and Industrial, LLC, Willow Grove, PA; Rada Technologies LLC, Germantown, MD; Rockwell Automation, Cleveland, OH; Sedna Digital Solutions LLC, Manassas, VA; Systel, Incorporated, Sugar Land, TX; Teledyne Brown Engineering, Inc., Huntsville, AL; and Telesto Group LLC, West Palm Beach, FL, have been added as parties to this venture.

No other changes have been made in either the membership or planned activity of the group research project. Membership in this group research project remains open, and MSTIC intends to file additional written notifications disclosing all changes in membership.

On October 21, 2020, MSTIC filed its original notification pursuant to section 6(a) of the Act. The Department of Justice published a notice in the Federal Register pursuant to section 6(b) of the Act on November 19, 2020 (85 FR 73750).

The last notification was filed with the Department on July 7, 2022. A notice was published in the Federal Register pursuant to section 6(b) of the Act on August 1, 2022 (87 FR 47004).

Catherine Reilly,
Counsel for Civil Operations, Antitrust Division.

[FR Doc. 2022-24256 Filed 11-7-22; 8:45 am]

BILLING CODE P